DEPARTMENT OF HEALTH AND HUMAN SERVICES

Administration for Children and Families

[OMB No.0970-0471]

Proposed Information Collection Activity; Early Head Start-Child Care Partnerships Sustainability Study

AGENCY: Office of Planning, Research, and Evaluation, Administration for Children and Families, HHS.

ACTION: Request for public comment.

SUMMARY: The Administration for Children and Families (ACF) at the U.S. Department of Health and Human Services (HHS) seeks approval to collect information for the Early Head Start-Child Care Partnerships Sustainability Study.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION: Description: This information collection is to provide nationally descriptive, longitudinal data on partnerships between Early Head Start programs and child care providers to inform program planning, technical assistance, and research. The proposed data collection is a follow-up study of the 2015 National Descriptive Study (NDS) of Early Head Start-Child Care Partnerships (OMB 0970-0471) that obtained information about the EHS programs, community-based child care centers, and family child care providers participating in the federal grants supporting the implementation of Early Head Start-child care partnerships (EHS-CCPs). The current information collection request will follow up with EHS programs and child care providers who participated in the NDS to understand whether and how partnerships have been sustained or have dissolved, and which features of partnerships support or impede sustainability. Data collection activities will include surveys of directors of 2015 EHS-CCP grantees and of child care provider directors/managers who were selected for participation in the NDS, as well as semi-structured interviews with a purposive sample of providers whose partnerships have dissolved and have been sustained since 2016.

Respondents: Early Head Start program directors and child care providers.

Annual Burden Estimates
Instrument | Number of respondents (total over request period) | Number of responses per respondent (total over request period) | Avg. burden per response (in hours) | Total burden (in hours) | Annual burden (in hours)
EHS Program Director Survey | 335 | 1 | .58 | 194 | 65
Sustained Partnership Provider Survey | 330 | 1 | .5 | 165 | 55
Dissolved Partnership Provider Survey | 140 | 1 | .5 | 70 | 24
Dissolved Partnership Provider Semi-structured Interview Protocol | 48 | 1 | .8 | 39 | 13
Sustained Partnership Provider Semi-structured Interview Protocol | 24 | 1 | .8 | 20 | 7

Estimated Total Annual Burden Hours: 164.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 645A and 649 of the Improving Head Start for School Readiness Act of 2007.

Mary B. Jones,
ACF/OPRE Certifying Officer.

[FR Doc. 2021-08258 Filed 4-20-21; 8:45 am]

BILLING CODE 4184-22-P